DEPARTMENT OF COMMERCE

National Oceanic and Atmospheric Administration

RIN 0648-XD301

South Atlantic Fishery Management Council; Public Meetings

AGENCY: National Marine Fisheries Service (NMFS), National Oceanic and Atmospheric Administration (NOAA), Commerce.

ACTION: Notice of public meetings of the South Atlantic Fishery Management Council (SAFMC).

SUMMARY: The South Atlantic Fishery Management Council (Council) will hold a Visioning Project Workshop, receive a presentation from NOAA Fisheries on the Development of a National Recreational Fishing Policy, and hold a joint committee meeting of the Habitat & Environmental Protection Committee and Ecosystem-Based Management Committee. The Council will also hold meetings of the: Executive Finance Committee; Protected Resources Committee; Scientific and Statistical Committee (SSC) Selection Committee (CLOSED SESSION); Advisory Panel Selection Committee (CLOSED SESSION); Law Enforcement Committee (CLOSED SESSION); Southeast Data, Assessment and Review (SEDAR) Committee; Snapper Grouper Committee; Joint committee meeting of the Dolphin Wahoo Committee and Snapper Grouper Committee; Highly Migratory Species (HMS) Committee; King & Spanish Mackerel Committee; Information and Education Committee; Golden Crab Committee, Data Collection Committee; and a meeting of the Full Council. The Council will take action as necessary. The Council will also hold an informal public question and answer session regarding agenda items and a formal public comment session.

DATES: The Council meeting will be held from 9 a.m. on Monday, June 9, 2014 until 3:15 p.m. on Friday, June 13, 2014.

ADDRESSES:

Meeting address: The meetings will be held at the Sawgrass Marriott, 1000 PGA Boulevard, Ponte Vedra Beach, FL 32082; telephone: (800) 457-4653 or (904) 285-7777; fax: (904) 285-0906.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Visioning Workshop, Monday, June 9, 2014, 9 a.m. Until 11:30 a.m.

1. Introduction and overview of the port meetings.

2. Review and discuss state port meeting summaries and comments received via port meeting discussion forms.

3. Provide direction to staff regarding planning for next steps.

NOAA Fisheries Presentation on Development of a National Recreational Fishing Policy, Monday, June 9, 2014, 11:30 a.m. Until 12 Noon

1. Staff from NOAA Fisheries will provide the Council with a presentation on the development of a National Recreational Fishing Policy.

Joint Habitat Committee and Ecosystem-Based Management Committees, Monday, June 9, 2014, 1:30 p.m. Until 3:30 p.m.

1. Receive reports from meetings of the Habitat Advisory Panel (AP), Coral AP and Deepwater Shrimp AP.

2. Review and approve redrafted Essential Fish Habitat (EFH) policy statements.

3. Receive an update on the status of Coral Amendment 8 addressing Coral Habitat Areas of Particular Concern (HAPCs) and transit through the Oculina Bank HAPC.

4. Receive an update on ecosystem activities.

Executive Finance Committee, Monday, June 9, 2014, 3:30 p.m. Until 4:30 p.m.

1. Approve the Calendar Year (CY) 2014 Council budget.

2. Receive updates on the status of the CY 2014 budget expenditures.

3. Address the Council Follow-up and priorities.

4. Receive an update on the Joint Committee on South Florida Management Issues.

5. Receive an overview of proposed Magnuson-Stevens Fishery Conservation and Management Act bills, a report on the Council Coordinating Committee meeting, an update on the status of the NOAA Fisheries Beaufort Lab, and address other issues as appropriate.

Protected Resources Committee, Monday, June 9, 2014, 4:30 p.m. Until 5:30 p.m.

1. Receive an update on ongoing consultations from the NOAA Fisheries Southeast Regional Office (SERO) Protected Resources Division.

2. Receive a report on: The final Biological Opinion for the Southeastern Shrimp Fisheries; a report on the final determination for coral listings; and the proposed critical habitat for loggerhead sea turtles.

3. Develop committee recommendations as appropriate.

SSC Selection Committee (Closed Session), Tuesday, June 10, 2014, 8:30 a.m. Until 9:30 a.m.

Review SSC applications and develop recommendations for appointments and/or reappointments.

AP Selection Committee (Closed Session), Tuesday, June 10, 2014, 9:30 a.m. Until 10:30 a.m.

1. Review advisory panel applications and develop recommendations for appointments and/or reappointments.

2. Develop committee recommendations as appropriate.

Law Enforcement Committee (Closed Session), Tuesday, June 10, 2014, 10:30 a.m. Until 11 a.m.

Develop recommendations for Law Enforcement Officer of the Year Award.

SEDAR Committee, Tuesday, June 10, 2014, 11 a.m. Until 12 Noon

1. Receive an update on SEDAR activities.

2. Receive an overview on the Council's assessment priorities.

3. Receive the SEDAR Steering Committee Report, an overview of the South Atlantic Fishery Dependent Workshop and the Council's assessment peer review process.

4. Review the 2014 research and monitoring plan.

Snapper Grouper Committee Agenda, Tuesday, June 10, 2014, 1:30 p.m. Until 5:30 p.m. and Wednesday, June 11, 2014, 8:30 a.m. Until 5 p.m.

1. Receive and discuss the status of commercial and recreational catches versus quotas for species under Annual Catch Limits (ACLs) with an overview of the commercial golden tilefish overage. The committee will take action as appropriate.

2. Receive an update on the status of Snapper Grouper amendments under formal Secretarial review.

3. Receive a report on the 2014 Red Snapper Season.

4. Receive an report from the Snapper Grouper Advisory Panel and the Scientific and Statistical Committee and take action as appropriate.

5. Receive a report on the status of the Oculina Experimental Closed Area (OECA) evaluation team work, review, modify and approve the Evaluation Report, determine if any changes are necessary to the OECA, and provide guidance to staff.

6. Receive an update on South Atlantic fishery-independent surveys.

7. Review Snapper Grouper Regulatory Amendment 16 (removal of the black sea bass pot closure), modify the draft document, choose preferred management alternatives, and provide guidance.

8. Review Snapper Grouper Amendment 22 (tags to track recreational harvest), discuss the amendment, and provide guidance to staff.

9. Review Snapper Grouper Amendment 29 addressing Only Reliable Catch Stocks (ORCS) and management measures for gray triggerfish; modify the amendment as appropriate and make recommendations to approve the amendment for formal review.

10. Review the options paper for Snapper Grouper Amendment 32 addressing blueline tilefish; modify the document, select preferred alternatives and approve the amendment for public hearings.

11. Review Snapper Grouper Regulatory Amendment 20 addressing snowy grouper; modify the document, select preferred alternatives and approve the amendment for public hearings.

12. Review the approach and options for setting gag and wreckfish fishing level recommendations, including recommendations from the SSC. Approve the approach, alternatives and provide guidance on timing to staff.

13. Review the Snapper Grouper Regulatory Amendment 17 scoping document addressing Marine Protected Areas (MPAs) and a potential alternative approach, modify the scoping document as appropriate and approve for scoping.

14. Review a draft letter supporting the renewal of Corps of Engineers permits for artificial reef construction off the Northeast coast of Florida and take action as appropriate.

15. Review the scoping document for Snapper Grouper Amendment 35 addressing species removal, modify as appropriate and approve for scoping.

16. Review the joint South Atlantic and Gulf Generic Amendment, modify as appropriate and provide guidance to staff.

17. Discuss the golden tilefish longline endorsement/hook and line issue for the commercial fishery and take action as necessary.

Note: There will be an informal public question and answer session with the NMFS Regional Administrator and the Council Chairman on Wednesday, June 11, 2014, beginning at 5:30 p.m.

Joint Dolphin Wahoo Committee and Snapper Grouper Committees, Thursday, June 12, 2014, 8:30 a.m. Until 10 a.m.

1. Receive and discuss the status of commercial and recreational catches versus ACLs for dolphin and wahoo.

2. Receive an update on the status of Dolphin Wahoo Amendment 5, pertaining to bag limit sale of fish and changes to the ACL and the Allowable Biological Catch (ABC).

3. Receive a report from the Dolphin Wahoo Advisory Panel.

4. Review Dolphin Wahoo Amendment 7 and Snapper Grouper Amendment 33 regarding the issue of transport of fillets from Bahamian waters into United States waters, modify the amendments as appropriate and approve for public hearings.

5. Review and discuss the Generic Accountability Measures and Dolphin Allocation Amendment, modify as appropriate, and approve for public hearings.

Highly Migratory Species Committee, Thursday, June 12, 2014, 10 a.m. Until 11 a.m.

1. Discuss shark interaction with South Atlantic fisheries and provide guidance to staff.

King and Spanish Mackerel Committee, Thursday, June 12, 2014, 11 a.m. Until 12 Noon and 1:30 p.m. Until 2:30 p.m.

1. Receive and discuss the status of commercial and recreational catches versus ACLs for Atlantic Group king mackerel, Spanish mackerel, and cobia.

2. Receive an update on the status of amendments under Formal Review and a report from the King and Spanish Mackerel Advisory Panel.

3. Review the Coastal Migratory Pelagics (CMP) Framework Amendment 2 addressing Spanish Mackerel trip limits, modify the document as appropriate, select preferred alternatives and approve for public hearings.

4. Review the options paper for Joint CMP Amendment 24 addressing allocations and shifts in ACLs and provide directions to staff.

Information and Education Committee, Thursday, June 12, 2014, 2 p.m. Until 3 p.m.

1. Receive a report from the Information and Education Advisory Panel.

2. Receive a summary of the Council-hosted Science Communication Workshop.

Golden Crab Committee, Thursday, June 12, 2014, 3 p.m. Until 4 p.m.

1. Receive an update on the status of Commercial Catch versus ACL for the golden crab fishery.

2. Receive a report from the Golden Crab Advisory Panel meeting and provide guidance to staff.

3. Review the Generic Accountability Measures and Dolphin Allocation Amendment, revise the amendment as appropriate and approve for public hearing.

Data Collection Committee, Thursday, June 12, 2014, 4 p.m. Until 5 p.m.

1. Receive an update on the status of the Joint Gulf and South Atlantic Council Generic Dealer Amendment and take action as appropriate.

2. Receive a presentation on the Electronic Technology (Data Collection and Monitoring) Implementation Plan and take action as appropriate.

3. Receive a presentation on the status of work in the northeast relative to the Comprehensive Ecosystem-Based Amendment 3 and take action as appropriate.

4. Review an options paper on how commercial fishermen could report electronically and via paper and provide guidance to staff.

5. Receive an update on the Commercial Logbook Pilot Study and take action as appropriate.

6. Review the Joint South Atlantic and Gulf Council Generic Charterboat Reporting Amendment, including an overview of the Gulf Council's actions, status and next steps, receive a report from the Technical Committee, and take action as appropriate.

Note: A formal public comment session will be held on Thursday, June 12, 2014, beginning at 5:30 p.m. on Snapper Grouper Amendment 29. Following comment on Amendment 29, public comment will be accepted regarding any other items on the Council agenda. The amount of time provided to individuals will be determined by the Chairman based on the number of individuals wishing to comment.

Council Session: Friday, June 13, 2014, 8:30 a.m. Until 3:15 p.m.

8:30 a.m.-8:45 a.m.: Call the meeting to order, adopt the agenda, approve the March 2014 minutes, and presentations.

8:45 a.m.-9 a.m.: The Council will receive a report from the Snapper Grouper Committee and is scheduled to either approve or disapprove Snapper Grouper Amendment 29 for formal Secretarial review. The Council will also consider approving or disapproving the following amendments to the Snapper Grouper Fishery Management Plan for public hearings: Amendment 32, Amendment 33, and Regulatory Amendment 20. The Council will also consider approving or disapproving Regulatory Amendment 17 for public scoping. The Council will consider other Committee recommendations and take action as appropriate.

9 a.m.-9:15 a.m.: The Council will receive a report from the King & Spanish Mackerel Committee and is scheduled to approve or disapprove the South Atlantic Spanish Mackerel Framework Amendment 2 for public hearings. The Council will consider other Committee recommendations and take action as appropriate.

9:15 a.m.-9:30 a.m.: The Council will receive a report from the Dolphin Wahoo Committee. The Council is scheduled to approve or disapprove Amendment 7 to the Dolphin Wahoo Fishery Management Plan and the Generic Allocation and Accountability Measures Amendment for public hearings. The Council will consider Committee recommendations and take action as appropriate.

9:30 a.m.-9:45 a.m.: The Council will receive a report from the Council Member Visioning Workshop, consider recommendations and take action as appropriate.

9:45 a.m.-10 a.m.: The Council will receive the Law Enforcement Committee Report and determine the Law Enforcement Officer of the Year recipient. The Council will consider other committee recommendations and take action as appropriate.

10 a.m.-10:15 a.m.: The Council will receive a report from the Joint Habitat and Ecosystem-Based Amendment Committee and approve or disapprove the updated EFH Policy Statements. The Council will consider other committee recommendations and take action as appropriate.

10:15 a.m.-10:30 a.m.: The Council will receive a report from the Protected Resources Committee, consider Committee recommendations and will take action as appropriate.

10:30 a.m.-10:45 a.m.: The Council will receive a report from the SEDAR Committee, consider Committee recommendations, and take action as appropriate.

10:45 a.m.-11 a.m.: The Council will receive a report from the Advisory Panel Selection Committee, consider Committee recommendations and appoint and/or reappoint members to its advisory panels. The Council will consider other recommendations and take action as appropriate.

11 a.m.-11:15 a.m.: The Council will receive a report from its Executive Finance Committee and is scheduled to approve the CY 2014 Council budget, Council Follow-up and Priorities documents. The Council will take action on the South Florida Management issues as appropriate, consider other Committee recommendations and take action as appropriate.

11:15 a.m.-11:30 a.m.: The Council will receive a report from the Data Collection Committee, consider recommendations and take action as appropriate.

11:30 a.m.-11:45 a.m.: The Council will receive a report from the SSC Selection Committee, consider Committee recommendations and appoint and/or reappoint members to its SSC. The Council will consider other recommendations and take action as appropriate.

11:45 a.m.-12 noon: The Council will receive a report from the HMS Committee, consider Committee recommendations and take action as appropriate.

1:30 p.m.-1:45 p.m.: The Council will receive a report from the Golden Crab Committee, and approve or disapprove the Generic Accountability Measures and Dolphin Allocation Amendment for public hearing. The Council will consider other Committee recommendations and take action as appropriate.

1:45 p.m.-2 p.m.: The Council will receive a report from the Information and Education Committee, consider Committee recommendations, and take action as appropriate.

2 p.m.-3:15 p.m.: The Council will receive status reports from NOAA Fisheries SERO and the Southeast Fisheries Science Center. The Council will review and develop recommendations on Experimental Fishing Permits as necessary; review agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: May 16, 2014.
Tracey L. Thompson,
Acting Deputy Director, Office of Sustainable Fisheries, National Marine Fisheries Service.

[FR Doc. 2014-11745 Filed 5-20-14; 8:45 am]

BILLING CODE 3510-22-P